DEPARTMENT OF COMMERCE

National Oceanic and Atmospheric Administration

[I.D. 070204B]

Mid-Atlantic Fishery Management Council; Public Meeting

AGENCY: National Marine Fisheries Service (NMFS), National Oceanic and Atmospheric Administration (NOAA), Commerce.

ACTION: Notice of public meeting.

SUMMARY: The Joint Mid-Atlantic Fishery Management Council (MAFMC) and the AtlanticStates Marine Fisheries Commission's (ASMFC) Summer Flounder, Scup, and Black Sea Bass Industry Advisors will hold a public meeting.

DATES: The meeting will be held on Tuesday, July 27, 2004, from 10 a.m. until 4 p.m.

ADDRESSES: The meeting will be held at the Renaissance Philadelphia Airport, 500 Stevens Drive, Lester, PA 19113; telephone: 610-521-5900.

MAFMC/ASMFC addresses: MAFMC, Room 2115, 300 S. New Street, Dover, DE 19904. ASMFC, 1444 Eye Street, NW, 6th Floor, Washington, DC 20005.

FOR FURTHER INFORMATION CONTACT: Daniel T. Furlong, Executive Director, Mid-Atlantic Fishery Management Council; telephone: 302-674-2331, ext. 19. Vince O'Shea, Executive Director, ASMFC, telephone 202-289-6400.

SUPPLEMENTARY INFORMATION: The purpose of this meeting is to discuss the proposed 2005 commercial management measures for summer flounder, scup, and black sea bass.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Debbie Donnangelo at the Council Office (see ADDRESSES) at least five days prior to the meeting date.

Dated: July 6, 2004.
Alan D. Risenhoover,
Acting Director, Office of Sustainable Fisheries, National Marine Fisheries Service.

[FR Doc. E4-1511 Filed 7-8-04; 8:45 am]

BILLING CODE 3510-22-S